DEPARTMENT OF HOUSING AND URBAN DEVELOPMENT

[Docket No. FR-5038-N-02]

Notice of Proposed Information Collection: Comment Request Annual Progress Report (APR) for Competitive Homeless Assistance Programs

AGENCY: Office of the Assistant Secretary for Community Planning and Development, HUD.

ACTION: Notice.

SUMMARY: The proposed information collection requirement described below will be submitted to the Office of Management and Budget (OMB) for review, as required by the Paperwork Reduction Act. The Department is soliciting public comments on the subject proposal.

DATES: Comments Due Date: June 23, 2006.

ADDRESSES: Interested persons are invited to submit comments regarding this proposal. Comments should refer to the proposal by name and/or OMB Control Number and should be sent to: Shelia Jones, Reports Liaison Officer, Department of Housing Urban and Development, 451 7th Street, SW., Room 7232, Washington, DC 20410.

FOR FURTHER INFORMATION CONTACT: Robyn Raysor (202) 708-2140, Ext. 4891 (this is not a toll-free number).

SUPPLEMENTARY INFORMATION: The Department will submit the proposed information collection to OMB for review, as required by the Paperwork Reduction Act of 1995 (44 U.S.C. Chapter 35 as Amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Annual Progress Report (APR) for Competitive Homeless Assistance Programs.

OMB Control Number, if applicable: 2506-0145.

Description of the need for the Information and proposed use: The Annual Progress Report (APR) tracks competitive homeless assistance program progress and is used to provide grant recipients and HUD with information necessary to assess program and grantee performance.

Agency form numbers, if applicable: HUD-40118.

Members of affected public: Grantees that have received HUD funding from 1987 to the present.

Estimation of the total numbers of hours needed to prepare the Information collection including number of respondents, frequency Of response, and hours of response:

Activity | Number of respondents | Frequency of response (annually) | Response hours | Burden hours
Record-keeping | 6,000 | 1 | 33 | 198,000
Report preparation | 6,000 | 1 | 8 | 48,000
Total |  |  |  | 246,000

Status of the proposed information collection: Information is currently being collected.

Authority: The Paperwork Reduction Act of 1995, 44 U.S.C. Chapter 35, as amended.

Pamela H. Patenaude,
Assistant Secretary for Community Planning and Development.

[FR Doc. E6-6090 Filed 4-21-06; 8:45 am]

BILLING CODE 4210-67-P